DEPARTMENT OF TRANSPORTATION

Federal Aviation Administration

14 CFR Part 39

[Docket No. 2003-NE-50-AD]

RIN 2120-AA64

Airworthiness Directives; Hartzell Propeller Inc. Model HC-B3TN-5( )/T10282( ) Propellers

AGENCY: Federal Aviation Administration (FAA), DOT.

ACTION: Notice of proposed rulemaking (NPRM).

SUMMARY: The FAA proposes to supersede an existing Priority Letter Airworthiness Directive (AD) for Hartzell Propeller Inc. Model HC-B3TN-5( )/T10282( ) propellers. That Priority Letter AD currently requires initial and repetitive inspections of the blade pilot tube bore area. This proposed AD would require the same inspections. This proposed AD results from a review of all currently effective ADs. That review determined that Priority Letter AD 88-24-15 was not published in the Federal Register to make it effective to all operators, as opposed to just the operators who received actual notice of the original Priority Letter AD. This proposed AD also results from the discovery that the original AD omitted an airplane model with a certain Supplemental Type Certificate (STC) from the applicability. We are proposing this AD to prevent possible blade failure near the hub which can result in blade separation, engine separation, damage to the airplane, and possible loss of the airplane.

DATES: We must receive any comments on this proposed AD by September 20, 2004.

ADDRESSES: Use one of the following addresses to submit comments on this proposed AD:

• By mail: Federal Aviation Administration (FAA), New England Region, Office of the Regional Counsel, Attention: Rules Docket No. 2003-NE-50-AD, 12 New England Executive Park, Burlington, MA 01803-5299.

• By fax: (781) 238-7055.

• By e-mail: 9-ane-adcomment@faa.gov.

You can get the service information identified in this proposed AD from Hartzell Propeller Inc. Technical Publications Department, One Propeller Place, Piqua, OH 45356; telephone (937) 778-4200; fax (937) 778-4391.

You may examine the AD docket, at the FAA, New England Region, Office of the Regional Counsel, 12 New England Executive Park, Burlington, MA.

FOR FURTHER INFORMATION CONTACT: Melissa T. Bradley, Aerospace Engineer, Chicago Aircraft Certification Office, FAA, Small Airplane Directorate, 2300 East Devon Avenue, Des Plaines, IL 60018; telephone (847) 294-8110; fax (847) 294-7834.

SUPPLEMENTARY INFORMATION:

Comments Invited

We invite you to submit any written relevant data, views, or arguments regarding this proposal. Send your comments to an address listed under ADDRESSES. Include “AD Docket No. 2003-NE-50-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On November 18, 1988, the FAA issued Priority Letter AD 88-24-15, applicable to Hartzell Propeller Inc. model HC-B3TN-5( )/T10282( ) propellers. That AD requires initial and repetitive inspections of the blade pilot tube bore area, and repair or replacement of parts as necessary. That AD was the result of a report of a cracked blade found on a propeller. That condition, if not corrected, could result in possible blade failure near the hub which can result in blade separation, engine separation, damage to the airplane, and possible loss of the airplane.

Actions Since AD 88-24-15 Was Issued

Since that AD was issued, we have reviewed all currently effective ADs. We found that Priority Letter AD 88-24-15 was not published in the Federal Register to make it effective to all operators, as opposed to just the operators who received actual notice of the original Priority Letter AD.

Also, since that AD was issued, the Chicago Aircraft Certification Office approved as optional terminating action to the repetitive inspections, an alternative method of compliance (AMOC). That AMOC exempts propeller model HC-B3TN-5( ) with blades part number (P/N) T10282N( ), T10282NB( ), T10282NK( ), or T10282NE( ) installed, from the AD action. This proposed AD incorporates that AMOC.

Also, since that AD was issued, we discovered that the AD applicability omitted Fairchild model SA226-AT airplanes, modified by Garrett General Aviation Services Company, STC SA345GL-D, with Garrett Model TPE331-10UA-511G engines. We are issuing this proposed AD to ensure that all affected propellers be inspected.

Relevant Service Information

We have reviewed and approved the technical contents of Hartzell Service Bulletin (SB) No. 136I, dated April 25, 2003, which describes the procedures for doing the inspections required by this proposed AD.

FAA's Determination and Requirements of the Proposed AD

We have evaluated all pertinent information and identified an unsafe condition that is likely to exist or develop on other products of this same type design. Therefore, we are proposing this AD, which would require for Hartzell Propeller Inc. model HC-B3TN-5( )/T10282( ) propellers (excluding model HC-B3TN-5( ) propellers with blades P/N T10282N( ), T10282NB( ), T10282NK( ), or T10282NE() installed), initial and repetitive inspections of the blade pilot tube bore area, and repair or replacement of parts as necessary. The proposed AD would require that you do these actions using the service information described previously.

Cost of Compliance

By adding STC SA345GL applicability, there are about 50 additional Hartzell Propeller Inc. Model HC-B3TN-5( )/T10282( ) propellers of the affected design in the worldwide fleet. Including the additional applicability, we estimate a total of 500 propellers have been installed on airplanes of U.S. registry and would be affected by this proposed AD. We also estimate that it would take about 2.5 work hours per propeller blade to perform the proposed actions, and that the average labor rate is $65 per work hour. Based on these figures, we estimate the total cost of the proposed AD to U.S. operators is $243,750.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-50-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding a new airworthiness directive, to read as follows:

Hartzell Propeller Inc.: Docket No. 2003-NE-50-AD. Supersedes Priority Letter AD 88-24-15.

Comments Due Date

(a) The Federal Aviation Administration (FAA) must receive comments on this airworthiness directive (AD) action by September 20, 2004.

Affected ADs

(b) This AD supersedes Priority Letter AD 88-24-15.

Applicability: (c) This AD applies to Hartzell Propeller Inc. model HC-B3TN-5( )/T10282( ) propellers installed on the airplane and engine combinations shown in the following Table 1 (excluding propellers with blades P/N T10282N( ), T10282NB( ), T10282NK( ), or T10282NE( ) installed).

Table 1.—Applicability
Airplane model | Propeller model | Engine model
Fairchild SA226-TC
Fairchild SA226-AT | HC-B3TN-5( )/T10282( ) | Garrett TPE331-10UA-511G
Fairchild SA226-T

(d) For reference, airplanes incorporating supplemental type certificates (STCs) SA344GL-D, SA4872SW, and SA345GL-D have these engine, propeller, and airplane combinations.

(e) The parentheses appearing in the propeller model number indicates the presence or absence of an additional letter(s) that varies the basic propeller model. This AD still applies regardless of whether these letters are present or absent in the propeller model designation.

Unsafe Condition

(f) This AD results from a review of all currently effective ADs. That review determined that Priority Letter AD 88-24-15 was not published in the Federal Register to make it effective to all operators, as opposed to just the operators who received actual notice of the original Priority Letter AD. This AD also results from the discovery that the original AD omitted an airplane model with a certain STC from the applicability. We are issuing this AD to prevent possible blade failure near the hub which can result in blade separation, engine separation, damage to the airplane, and possible loss of the airplane.

Compliance: (g) You are responsible for having the actions required by this AD performed within the compliance times specified unless the actions have already been done.

Required Actions

(h) Within 10 hours time-in-service (TIS) after the effective date of this AD, perform a document search to determine if the following actions have been done:

(1) The propeller blades meet the initial and repetitive compliance requirements of Priority Letter AD 88-24-15.

(2) The T10282( ) propeller blades have been replaced with P/N T10282N( ), T10282NB(), T10282NK( ), or T10282NE( ) propeller blades.

(i) If the actions in paragraph (h)(1) or (h)(2) of this AD have not been done, then do one of the following:

(1) Inspect the blades using Paragraph 3 of Accomplishment Instructions of Hartzell Service Bulletin (SB) No. 136I, dated April 25, 2003, within 500 hours time-since-new (TSN) or time-since-last-overhaul (TSLO) and not to exceed two years after the effective date of this AD, whichever occurs first; and thereafter within 500 service-hour intervals; or

(2) Replace with P/N T10282N( ), T10282NB( ), T10282NK( ), or T10282NE( ) propeller blades as applicable, within 500 hours TSN or TSLO and not to exceed two years after the effective date of this AD, whichever occurs first.

(j) If the actions in paragraph (h)(1) of this AD have been done, but not the actions in paragraph (h)(2) of this AD, then do the following:

(1) Inspect the blades within 500 hours since the last Hartzell SB No. 136E, or later Revision, inspection, and thereafter within 500 service hour intervals, using Paragraph 3 of the Accomplishment Instructions of Hartzell SB No. 136I, dated April 25, 2003.

(2) Replace before further flight all blades showing evidence of cracks or other unairworthy conditions, as noted in Hartzell SB No. 136I, dated April 25, 2003, with airworthy blades.

Hartzell SB No. 136

(k) Since Hartzell SB No. 136E was issued, the SB has been revised to 136F, 136G, 136H, and 136I. Any of these revisions are suitable for determining past compliance, as they are all approved as alternative methods of compliance (AMOC). After the effective date of this AD, compliance is restricted to SB No. 136I or later versions when approved by an AMOC.

Optional Terminating Action

(l) Installation of propeller blades, P/N T10282NE( ), T10282NB( ), T10282NK( ), or T10282NE( ) as applicable, onto a Hartzell Propeller Inc. model HC-B3TN-5( ) propeller constitutes terminating action to the inspections, repairs, and replacements specified in paragraphs (i) through (j)(2) of this AD.

Alternative Methods of Compliance

(m) The Manager, Chicago Aircraft Certification Office, has the authority to approve alternate methods of compliance for this AD if requested using the procedures found in 14 CFR 39.19.

Material Incorporated by Reference

(n) None.

Related Information

(o) None.

Issued in Burlington, Massachusetts, on July 16, 2004.
Robert Guyotte,
Acting Manager, Engine and Propeller Directorate, Aircraft Certification Service.

[FR Doc. 04-16662 Filed 7-21-04; 8:45 am]

BILLING CODE 4910-13-P